DEPARTMENT OF ENERGY

Federal Energy Regulatory Commission

[Project No. 13435-000]

Hydrodynamics, Inc.; Notice of Preliminary Permit Application Accepted for Filing and Soliciting Comments, Motions To Intervene, and Competing Applications

July 10, 2009.

On April 23, 2009, Hydrodynamics, Inc. filed an application for a preliminary permit, pursuant to section 4(f) of the Federal Power Act, proposing to study the feasibility of the St. Mary Drops Project, located on the St. Mary Canal, a tributary of the St. Mary River that is a feature of the U.S. Bureau of Reclamation's Milk River Project, and discharging into the Milk River, in Glacier County, Montana. The sole purpose of a preliminary permit, if issued, is to grant the permit holder priority to file a license application during the permit term. A preliminary permit does not authorize the permit holder to perform any land disturbing activities or otherwise enter upon lands or waters owned by others without the owners' express permission.

The proposed project would consist of the following: (1) A new 2.2-mile-long rubber-lined earthen canal extending from the existing St. Mary Canal approximately 27 miles downstream from the existing St. Mary Diversion Dam and bypassing five drop structures on the existing canal; (2) a new 15-foot-tall, 15-foot-wide, 10-foot-deep concrete intake structure with trashracks; (3) a new 10-foot-diameter, 1,200-foot-long steel penstock; (4) a new powerhouse containing two generating units with a combined capacity of 7.9 megawatts; (5) a new tailrace discharging flows into the Milk River; (6) a new substation; (7) a new 12.5-kilovolt, 2-mile-long transmission line; and (8) appurtenant facilities. The proposed project would have an average annual generation of 25 gigawatt-hours.

Applicant Contact: Ben Singer, Project Manager, Hydrodynamics, Inc., P.O. Box 1136, Bozeman, MT 59771; phone: (406) 587-5086.

FERC Contact: Dianne Rodman, (202) 502-6077.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13435) in the docket number field to access the document. For assistance, call toll-free 1-866-208-3372.

Kimberly D. Bose,
Secretary.

[FR Doc. E9-16980 Filed 7-16-09; 8:45 am]

BILLING CODE 6717-01-P